DEPARTMENT OF ENERGY

DOE/NSF Nuclear Science Advisory Committee

AGENCY: Office of Science, Department of Energy.

ACTION: Notice of Open Meeting.

SUMMARY: This notice announces a meeting of the DOE/NSF Nuclear Science Advisory Committee (NSAC). Federal Advisory Committee Act requires that public notice of these meetings be announced in the Federal Register.

DATES: Monday, March 2, 2020; 8:15 a.m.-4:00 p.m.

ADDRESSES: Crystal City Marriott at Reagan National Airport, 1999 Richmond Highway, Salons D & E, Arlington, Virginia 22202, 703-413-5500.

FOR FURTHER INFORMATION CONTACT: Brenda L. May, U.S. Department of Energy; SC-26/Germantown Building, 1000 Independence Avenue SW, Washington, DC 20585-1290; Telephone: (301) 903-0536, or email: brenda.may@science.doe.gov.

The most current information concerning this meeting can be found on the website: https://science.osti.gov/np/nsac/meetings.

SUPPLEMENTARY INFORMATION: Purpose of the Committee: The purpose of the Committee is to provide advice and guidance on a continuing basis to the Department of Energy and the National Science Foundation on scientific priorities within the field of basic nuclear science research.

Tentative Agenda: Agenda will include discussions of the following:

Monday, March 2, 2020

• Perspectives from Department of Energy and National Science Foundation

• Update from the Department of Energy and National Science Foundation's Nuclear Physics Office's

• Presentation and Discussion of the Committee of Visitors Subcommittee Report

• Presentation and Discussion of the Mo-99 Subcommittee Report

• Presentation on the Fission in R-process Elements Topical Collaboration

• Presentation on the Transverse Momentum Topical Collaboration

• NSAC Business/Discussions

Note: The NSAC Meeting will be broadcast live on the internet. You may find out how to access this broadcast by going to the Office of Science's website prior to the start of the meeting at: https://science.osti.gov/np/nsac/meetings. A video record of the meeting, including the presentations that are made, will be archived at this site after the meeting.

Public Participation: The meeting is open to the public. If you would like to file a written statement with the Committee, you may do so either before or after the meeting. If you would like to make oral statements regarding any of these items on the agenda, you should contact Brenda L. May, 301-903-0536 or Brenda.May@science.doe.gov (email). You must make your request for an oral statement at least five business days before the meeting. Reasonable provision will be made to include the scheduled oral statements on the agenda. The Chairperson of the Committee will conduct the meeting to facilitate the orderly conduct of business. Public comment will follow the 10-minute rule.

Minutes: The minutes of the meeting will be available for review on the U.S. Department of Energy's Office of Nuclear Physics website at https://science.osti.gov/np/nsac/meetings.

Signed in Washington, DC, on January 30, 2020.
LaTanya Butler,
Deputy Committee Management Officer.

[FR Doc. 2020-02160 Filed 2-4-20; 8:45 am]

BILLING CODE 6450-01-P